DEPARTMENT OF HEALTH AND HUMAN SERVICES

Centers for Disease Control And Prevention

[60Day-00-21]

Proposed Data Collections Submitted for Public Comment and Recommendations

In compliance with the requirement of Section 3506 (c) (2) (A) of the Paperwork Reduction Act of 1995, the Centers for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 60 days of this notice.

Proposed Projects

The Role of Positive and Negative Emotion in Promoting Hearing Conservation Behaviors Among Coal Miners—New—The mission of the National Institute for Occupational Safety and Health (NIOSH) is to promote “safety and health at work for all people through research and prevention.” NIOSH investigates and identifies occupational safety and health hazards and conducts a variety of activities, including educational programs with workers, to help prevent work-related illness and injury.

One of the most widespread, but often overlooked, occupational hazards is noise. As a result, hearing loss is the most common occupational disease in the United States today. More than 30 million workers are exposed to hazardous noise levels.

The risk of hearing loss is particularly high in certain occupations. Research shows that more than 90 percent of coal miners will experience moderate to significant hearing loss by the time they reach retirement. This level of hearing loss has a number of negative implications for both the affected individual and others: (1) Impaired communication with family members, friends, and coworkers can result in social isolation; (2) unrelenting tinnitus (ringing in the ears) can significantly lower one's quality of life; (3) a diminished ability to monitor the work environment (including warning signals, etc.) increases the risk of accidents and further injury at the workplace; and, finally, (4) there are economic costs that result from workers' compensation and lower productivity.

New noise standards for the mining environment have recently been issued by the Department of Labor and will go into effect in September 2000. The new rules require that mine operators take necessary action to protect miners' hearing when noise levels reach 85 dBA or more over an eight-hour period with additional actions required at 90 dBA. While the new standard establishes mandatory behaviors, such as the wearing of both ear plug and earmuff-type hearing protectors at noise levels of 105 dBA or more over an eight-hour period, there are also voluntary behaviors associated with the new rules. The wearing of hearing protectors at levels below 90 dBA and getting hearing tests as part of a hearing conservation program are both voluntary on the part of the individual miner.

This study is designed to ascertain factors that can be used to encourage adoption of voluntary behaviors among coal miners. The choice of this subset of miners is based upon research that indicates they experience significantly more hearing loss than metal and nonmetal miners. NIOSH proposes working with the United Mine Workers of America and experts in health communication to test the effectiveness of several innovative approaches to communicating hearing loss risk and promoting self-protective behaviors. Different messages will be sent to four different groups of coal miners, and there will be one control group that receives no message. The researchers will follow up with these groups at two different points in time to assess the relative effectiveness of the messages.

The central purpose of this study is to promote hearing conservation among coal miners and encourage the adoption of the voluntary components of the new noise standard. However, NIOSH believes that the results of this study will help in similar efforts with other worker populations. There is no cost to respondents.

Respondents | Number of respondents | Number of responses/respondent (in hrs.) | Ave. burden per response (in hrs.) | Total burden (in hrs.)
Coal miners in pretest | 80 | 1 | 30/60 | 40
Coal miners in study | 300 | 2 | 30/60 | 300
Total |  |  |  | 340

Dated: February 2, 2000.
Nancy Cheal,
Acting Associate Director for Policy, Planning, and Evaluation, Centers for Disease Control and Prevention (CDC).

[FR Doc. 00-3058 Filed 2-9-00; 8:45 am]

BILLING CODE 4163-18-P